NUCLEAR REGULATORY COMMISSION

[NRC-2025-1073]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by October 2, 2025. A request for a hearing or petitions for leave to intervene must be filed by November 3, 2025. This monthly notice includes all amendments issued, or proposed to be issued, from July 18, 2025, to August 14, 2025. The last monthly notice was published on August 6, 2025.

ADDRESSES: You may submit comments by any of the following methods; however, the NRC encourages electronic comment submission through the Federal rulemaking website.

• Federal rulemaking website: Go to https://www.regulations.gov and search for Docket ID NRC-2025-1073. Address questions about Docket IDs in Regulations.gov to Bridget Curran; telephone: 301-415-1003; email: Bridget.Curran@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Angela Baxter, Office of Nuclear Reactor Regulation, U.S. Nuclear Regulatory Commission, Washington, DC 20555-0001; telephone: 301-415-8209; email: Angela.Baxter@nrc.gov.

SUPPLEMENTARY INFORMATION:

I. Obtaining Information and Submitting Comments

A. Obtaining Information

Please refer to Docket ID NRC-2025-1073, facility name, unit number(s), docket number(s), application date, and subject when contacting the NRC about the availability of information for this action. You may obtain publicly available information related to this action by any of the following methods:

• Federal Rulemaking Website: Go to https://www.regulations.gov and search for Docket ID NRC-2025-1073.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-1073, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before the expiration of the 60-day period provided that its final determination is that the amendment involves NSHC. In addition, the Commission may issue any of these amendments prior to the expiration of the 30-day comment period if circumstances change during the 30-day comment period such that failure to act in a timely way would result, for example, in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained, absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in the Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Braidwood Station, Units 1 and 2, Will County, IL; Byron Station, Unit Nos. 1 and 2, Ogle County, IL; Constellation Energy Generation, LLC; Clinton Power Station, Unit No. 1; DeWitt County, IL; Constellation Energy Generation, LLC; Dresden Nuclear Power Station, Units 2 and 3; Grundy County, IL; Constellation Energy Generation, LLC; LaSalle County Station, Units 1 and 2; LaSalle County, IL; Constellation Energy Generation, LLC; Limerick Generating Station, Units 1 and 2; Montgomery County, PA; Constellation Energy Generation, LLC; Peach Bottom Atomic Power Station, Units 2 and 3; York County, PA; Constellation Energy Generation, LLC; Quad Cities Nuclear Power Station, Units 1 and 2; Rock Island County, IL; Nine Mile Point Nuclear Station, LLC and Constellation Energy Generation, LLC; Nine Mile Point Nuclear Station, Unit 2; Oswego County, NY
Docket Nos | 50-456, 50-457, 50-454, 50-455, 50-461, 50-237, 50-249, 50-373, 50-374, 50-352, 50-353, 50-277, 50-278, 50-254, 50-265, 50-410.
Application date | August 5, 2025.
ADAMS Accession No | ML25218A063.
Location in Application of NSHC | Pages 4-5 of Attachment 1.
Brief Description of Amendments | The proposed amendments request adoption of Technical Specifications Task Force (TSTF) Traveler, TSTF-599, Revision 1, “Eliminate Periodic Surveillance Test of Simultaneous Start of Redundant Diesel Generators.” TSTF-599 deletes a surveillance requirement in TS 3.8.1, “AC [alternating current] Sources—Operating,” to verify that diesel generators achieve a specific frequency and voltage within a specified time period when started simultaneously.
Proposed Determination | NSHC.
Name of Attorney for Licensee, Mailing Address | Jason Zorn, Associate General Counsel, Constellation Energy Generation, LLC., 101 Constitution Ave. NW, Suite 400 East, Washington, DC 20001.
NRC Project Manager, Telephone Number | Scott Wall, 301-415-2855.
Constellation Energy Generation, LLC; Quad Cities Nuclear Power Station, Units 1 and 2; Rock Island County, IL
Docket Nos | 50-254, 50-265.
Application date | June 20, 2025.
ADAMS Accession No | ML25171A137.
Location in Application of NSHC | Pages 5-7 of Attachment 1.
Brief Description of Amendments | The proposed amendments would revise technical specification (TS) 3.6.2.4, “Residual Heat Removal (RHR) Suppression Pool Spray,” for Quad Cities Nuclear Power Station, Units 1 and 2, to permit the use of a Risk-Informed Completion Time (RICT) when one RHR suppression pool spray subsystem is inoperable. The amendments adopt Technical Specifications Task Force (TSTF) Traveler TSTF-505, Revision 2, “Provide Risk-Informed Extended Completion Times—RITSTF Initiative 4b,” which allows licensees to calculate longer Completion Times based on risk insights. The proposed amendments also remove license conditions associated with one-time actions to support prior implementation of RICT program.
Proposed Determination | NSHC.
Name of Attorney for Licensee, Mailing Address | Jason Zorn, Associate General Counsel, Constellation Energy Generation, LLC., 4300 Winfield Road, Warrenville, IL 60555.
NRC Project Manager, Telephone Number | Robert Kuntz, 301-415-3733.
Florida Power & Light Company; Turkey Point Nuclear Generating Unit Nos. 3 and 4; Miami-Dade County, FL
Docket Nos | 50-250, 50-251.
Application date | June 30, 2025.
ADAMS Accession No | ML25182A034.
Location in Application of NSHC | Pages 23-24 of the Enclosure.
Brief Description of Amendments | The proposed amendments would allow the licensee to implement 10 CFR 50.69, “Risk-informed categorization and treatment of structures, systems and components for nuclear power reactors,” at Turkey Point Nuclear Generating Unit Nos. 3 and 4.
Proposed Determination | NSHC.
Name of Attorney for Licensee, Mailing Address | Steven Hamrick, Senior Attorney—Nuclear, Florida Power and Light Company, (LAW/WAS) General Counsel, 801 Pennsylvania Ave. NW, Suite 220, Washington, DC 20004.
NRC Project Manager, Telephone Number | Blake Purnell, 301-415-1380.
Nebraska Public Power District; Cooper Nuclear Station; Nemaha County, NE
Docket No | 50-298.
Application date | June 24, 2025.
ADAMS Accession No | ML25177A030.
Location in Application of NSHC | Pages 2-4 of Attachment 1.
Brief Description of Amendment | The proposed amendment would revise technical specification 3.6.4.3, “Standby Gas Treatment (SGT) System,” Surveillance Requirement (SR) 3.6.4.3.1, which would revise the SR to operate the SGT system with electric heaters operating from 10 continuous hours to 15 continuous minutes in accordance with the Surveillance Frequency Control Program. The proposed amendment is consistent with Technical Specifications Task Force (TSTF) Traveler TSTF-522, Revision 0, “Revise Ventilation System Surveillance Requirements to Operate for 10 hours per Month.” This license amendment requests the proposed amendment be evaluated under the Consolidated Line-Item Improvement Process.
Proposed Determination | NSHC.
Name of Attorney for Licensee, Mailing Address | John C. McClure, Executive Vice President External Affairs and General Counsel, Nebraska Public Power District, P.O. Box 499, Columbus, NE 68601.
NRC Project Manager, Telephone Number | Thomas Byrd, 301 415-3719.
Northern States Power Company; Prairie Island Nuclear Generating Plant, Units 1 and 2; Goodhue County, MN
Docket Nos | 50-282, 50-306.
Application date | July 14, 2025.
ADAMS Accession No | ML25195A249.
Location in Application of NSHC | Pages 6-7 of the Enclosure.
Brief Description of Amendments | The proposed amendments would change the technical specifications (TS) to relocate details from Note 1 of surveillance requirement (SR) 3.8.1.3 to the Bases, remove an expired one-time Completion Time from TS 3.8.1, Condition E, remove the expired guidance of TS SR 3.8.1.10, Note 3 and the associated footnote from TS, and make editorial corrections. Specifically, TS SR 3.8.1.3, Note 1 states, “DG [diesel generator] loadings may include gradual loading in consideration of manufacturer's recommendations.” The proposed amendments would relocate discussion of manufacturer's recommendations to the Bases with added details. This change is similar to one approved previously for SR 3.8.1.2 via Amendment Nos. 245 and 233 on September 27, 2024 (ML24221A362).
Proposed Determination | NSHC.
Name of Attorney for Licensee, Mailing Address | Andrew Van Duzer, Assistant General Counsel, Xcel Energy, 701 Pennsylvania Ave. NW, Suite 250, Washington, DC 20004.
NRC Project Manager, Telephone Number | Beth Wetzel, 301-415-5223.
Southern Nuclear Operating Company, Inc.; Joseph M. Farley Nuclear Plant, Units 1 and 2; Houston County, AL
Docket Nos | 50-348, 50-364.
Application date | June 30, 2025.
ADAMS Accession No | ML25181A816.
Location in Application of NSHC | Pages E-11—E-13 of the Enclosure.
Brief Description of Amendments | The proposed amendments would revise the Joseph M. Farley Nuclear Plant, Units 1 and 2, Technical Specification Table 3.3.3-1, “Post Accident Monitoring Instrumentation,” by deleting Function 10, “RCS [Reactor Coolant System] Subcooling Margin Monitor.”
Proposed Determination | NSHC.
Name of Attorney for Licensee, Mailing Address | Millicent Ronnlund, Vice President and General Counsel, Southern Nuclear Operating Co., Inc., P.O. Box 1295, Birmingham, AL 35201-1295.
NRC Project Manager, Telephone Number | Zachary Turner, 301-415-6303.
Southern Nuclear Operating Company, Inc.; Vogtle Electric Generating Plant, Units 3 and 4; Burke County, GA
Docket Nos | 52-025, 52-026.
Application date | July 15, 2025.
ADAMS Accession No | ML25196A469.
Location in Application of NSHC | Pages E-11 and E-12 of the Enclosure.
Brief Description of Amendments | The proposed amendments would revise technical specification (TS) Actions for TS 3.3.13, “Engineered Safety Feature Actuation System (ESFAS) Main Control Room Isolation, Air Supply Initiation, and Electrical Load De-energization,” and TS 3.7.6, “Main Control Room Emergency Habitability System (VES).”
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Clinton Power Station, Unit No. 1; DeWitt County, IL; Constellation Energy Generation, LLC; LaSalle County Station, Units 1 and 2; LaSalle County, IL; Constellation Energy Generation, LLC; Limerick Generating Station, Units 1 and 2; Montgomery County, PA; Constellation Energy Generation, LLC; Peach Bottom Atomic Power Station, Units 2 and 3; York County, PA; Constellation FitzPatrick, LLC and Constellation Energy Generation, LLC; James A. FitzPatrick Nuclear Power Plant; Oswego County, NY; Nine Mile Point Nuclear Station, LLC; and Constellation Energy Generation, LLC; Nine Mile Point Nuclear Station, Unit 2; Oswego County, NY
Docket Nos | 50-461, 50-373, 50-374, 50-352, 50-353, 50-277, 50-278, 50-333, 50-410.
Amendment Date | July 21, 2025.
ADAMS Accession No | ML25192A239.
Amendment Nos | 256 (Clinton); 265 (LaSalle, Unit 1); 250 (LaSalle, Unit 2); 267 (Limerick, Unit 1); 229 (Limerick, Unit 2); 346 (Peach Bottom, Unit 2); 349 (Peach Bottom, Unit 3); 360 (FitzPatrick); 199 (Nine Mile, Unit 2).
Brief Description of Amendments | The amendments revised the technical specifications for each facility in accordance with Technical Specifications Task Force (TSTF) Traveler TSTF-597, Revision 0, “Eliminate LCO [Limiting Conditions for Operations] 3.0.3 Mode 2 Requirement.”
Public Comments Received as to Proposed NSHC (Yes/No) | No.
Constellation Energy Generation, LLC; Dresden Nuclear Power Station, Units 2 and 3; Grundy County, IL
Docket Nos | 50-237, 50-249.
Amendment Date | July 30, 2025.
ADAMS Accession No | ML25196A299.
Amendment Nos | 286 (Unit 2), 279 (Unit 3).
Brief Description of Amendments | The amendments adopted Technical Specification Task Force (TSTF) Traveler 505 (TSTF-505), Revision 2, “Provide Risk Informed Completion Times—RITSTF Initiative 4b,” and TSTF-591, Revision 0, “Revise Risk Informed Completion Time (RICT) Program.”
Public Comments Received as to Proposed NSHC (Yes/No) | No.
Constellation Energy Generation, LLC; Dresden Nuclear Power Station, Units 2 and 3; Grundy County, IL
Docket Nos | 50-237, 50-249.
Amendment Date | August 7, 2025.
ADAMS Accession No | ML25213A180.
Amendment Nos | 287 (Unit 2), 280 (Unit 3).
Brief Description of Amendments | The amendments adopted 10 CFR 50.69, “Risk Informed Categorization and Treatment of Structures, Systems, and Components for Nuclear Power Reactors.”
Public Comments Received as to Proposed NSHC (Yes/No) | No.
Energy Northwest; Columbia Generating Station; Benton County, WA
Docket No | 50-397.
Amendment Date | July 24, 2025.
ADAMS Accession No | ML25161A150.
Amendment No | 278.
Brief Description of Amendment | The amendment approved the use of generic personnel titles instead of plant-specific titles. Additionally, an enhancement was approved to replace the term “plant-specific titles” with “generic titles” in technical specification (TS) Section 5.0, “Administrative Controls,” and to use appropriately decapitalized titles for positions, ensuring consistency with the Columbia TSs listed sections. None of the changes resulted in changes to technical requirements.
Public Comments Received as to Proposed NSHC (Yes/No) | No.
Entergy Louisiana, LLC, and Entergy Operations, Inc.; River Bend Station, Unit 1; West Feliciana Parish, LA; Entergy Operations, Inc., System Energy Resources, Inc., Cooperative Energy, A Mississippi Electric Cooperative, and Entergy Mississippi, LLC; Grand Gulf Nuclear Station, Unit 1; Claiborne County, MS; Entergy Operations, Inc.; Arkansas Nuclear One, Units 1 and 2; Pope County, AR; Entergy Operations, Inc.; Waterford Steam Electric Station, Unit 3; St. Charles Parish, LA
Docket No | 50-313, 50-368, 50-416, 50-458, 50-382.
Amendment Date | July 29, 2025.
ADAMS Accession No | ML25197A534.
Amendment Nos | 283 (ANO, Unit 1); 336 (ANO, Unit 2); 238 (Grand Gulf); 218 (River Bend); 275 (Waterford 3).
Brief Description of Amendments | The amendments revised the technical specifications (TSs) for Arkansas Nuclear One, Units 1 and 2 (ANO Units 1 and 2), Grand Gulf Nuclear Station, Unit 1 (Grand Gulf), River Bend Station, Unit 1 (River Bend), and Waterford Steam Electric Station, Unit 3 (Waterford 3). Specifically, the amendments revised the “Programs and Manuals” (section is titled “Programs” for Waterford) TS Section, “Risk Informed Completion Time [RICT] Program,” to reference NRC's Regulatory Guide 1.200, Revision 3, instead of Revision 2, and to make other changes. Additionally, a new report was added to the “Reporting Requirements” TS Section, to inform the NRC of newly developed methods used to calculate a RICT. The proposed changes were consistent with Technical Specifications Task Force (TSTF) Traveler, TSTF-591, Revision 0, “Revise Risk Informed Completion Time (RICT) Program.”
Public Comments Received as to Proposed NSHC (Yes/No) | No.
Entergy Operations, Inc.; Arkansas Nuclear One, Unit 1; Pope County, AR
Docket No | 50-313.
Amendment Date | July 30, 2025.
ADAMS Accession No | ML25188A184.
Amendment No | 284.
Brief Description of Amendment | The amendment authorized corresponding changes to the safety analysis report concurrent with the issuance of an order relaxation letter (ML25192A201) for the Arkansas Nuclear One, Unit 1 Confirmatory Order dated January 2, 1980 (ML021220215), to implement all “Category A” lessons learned requirements by January 31, 1980. The changes allow certain manual actions outside the control room to restore emergency power to the pressurizer heaters.
Public Comments Received as to Proposed NSHC (Yes/No) | No.
Entergy Operations, Inc.; Waterford Steam Electric Station, Unit 3; St. Charles Parish, LA
Docket No | 50-382.
Amendment Date | July 25, 2025.
ADAMS Accession No | ML25169A088.
Amendment No | 274.
Brief Description of Amendment | The amendment revised current technical specification (TS) 3.7.6.3, “Control Room Air Temperature—Operating,” and TS 3.7.6.4, “Control Room Air Temperature—Shutdown,” by extending the completion time (CT) for one inoperable control room air conditioning unit from 7 days to 30 days and the CT when both control room air conditioning units are inoperable from 1 hour to 24 hours.
Public Comments Received as to Proposed NSHC (Yes/No) | No.
Pacific Gas and Electric Company; Diablo Canyon Nuclear Power Plant, Units 1 and 2; San Luis Obispo County, CA
Docket Nos | 50-275, 50-323.
Amendment Date | July 21, 2025.
ADAMS Accession No | ML25184A077.
Amendment Nos | 251 (Unit 1) and 253 (Unit 2).
Brief Description of Amendments | The amendments approved alternative security measures for the implementation of the Early Warning System.
Public Comments Received as to Proposed NSHC (Yes/No) | No.
Palisades Energy, LLC; Palisades Nuclear Plant; Van Buren County, MI
Docket No | 50-255.
Amendment Date | July 24, 2025.
ADAMS Accession No | ML25156A045.
Amendment No | 279.
Brief Description of Amendment | The amendment allows the use of the Framatome Inc. Topical Report EMF-2310, Revision 1, Supplement 2P-A, Revision 0, “SRP [Standard Review Plan] Chapter 15 Non-LOCA [loss-of-coolant accident] Methodology for Pressurized Water Reactors,” for application of the Biasi Critical Heat Flux correlation in the Post-Scram Main Steam Line Break Analysis at Palisades Nuclear Plant (PNP), which supports the resumption of power operations at PNP.
Public Comments Received as to Proposed NSHC (Yes/No) | Yes.
Palisades Energy, LLC; Palisades Nuclear Plant; Van Buren County, MI
Docket No | 50-255.
Amendment Date | July 24, 2025.
ADAMS Accession No | ML25157A127.
Amendment No | 276.
Brief Description of Amendment | The amendment revised the Renewed Facility Operating License, the Permanently Defueled technical specifications, the Environmental Protection Plan, and the Physical Security Plan to support resumption of power operations at the Palisades Nuclear Plant.
Public Comments Received as to Proposed NSHC (Yes/No) | No.
Palisades Energy, LLC; Palisades Nuclear Plant; Van Buren County, MI
Docket No | 50-255.
Amendment Date | July 24, 2025.
ADAMS Accession No | ML25157A107.
Amendment No | 277.
Brief Description of Amendment | The amendment revised selected sections of the permanently defueled technical specifications to support reauthorization of power operations at the Palisades Nuclear Plant.
Public Comments Received as to Proposed NSHC (Yes/No) | No.
Palisades Energy, LLC; Palisades Nuclear Plant; Van Buren County, MI
Docket No | 50-255.
Amendment Date | July 24, 2025.
ADAMS Accession No. | ML25150A281.
Amendment No | 278.
Brief Description of Amendment | The amendment revised the Palisades Nuclear Plant Permanently Defueled Emergency Plan and emergency action level scheme to reflect the reauthorization of power operations at the Palisades Nuclear Plant. The amendment approved the Palisades Nuclear Plant Power Operations Site Emergency Plan.
Public Comments Received as to Proposed NSHC (Yes/No) | No.
PSEG Nuclear LLC; Hope Creek Generating Station; Salem County, NJ
Docket No | 50-354.
Amendment Date | July 23, 2025.
ADAMS Accession No | ML25169A300.
Amendment No | 238.
Brief Description of Amendment | The amendment revised the Hope Creek Generating Station technical specifications to Improved Standard Technical Specifications, consistent with NUREG-1433, Revision 5, “Standard Technical Specifications—General Electric BWR/4 Plants.”
Public Comments Received as to Proposed NSHC (Yes/No) | No.
PSEG Nuclear LLC; Hope Creek Generating Station; Salem County, NJ
Docket No | 50-354.
Amendment Date | July 17, 2025.
ADAMS Accession No | ML25107A308.
Amendment No | 237.
Brief Description of Amendment | The amendment revised the license and technical specifications for Hope Creek Generating Station to increase certain surveillance requirement intervals from 18 months to 24 months for surveillance requirements whose frequency is controlled within the licensee's Surveillance Frequency Control Program. Also, the amendment increased some surveillance requirement intervals extended under the Surveillance Frequency Control Program from 36 months to 48 months.
Public Comments Received as to Proposed NSHC (Yes/No) | No.
PSEG Nuclear LLC; Hope Creek Generating Station; Salem County, NJ
Docket No | 50-354.
Amendment Date | August 5, 2025.
ADAMS Accession No | ML25104A095.
Amendment No | 239.
Brief Description of Amendment | The amendment revised technical specification (TS) 3.4.3, “Safety/Relief Valves,” that modified the code safety valve function lift settings for all 14 valves as well as, expand the as-found safety function lift setpoint tolerances that are listed in Surveillance Requirement (SR) 3.4.3.1. The amendment also increased the inservice testing program test pressure in SR 3.1.7.7, associated with TS 3.1.7, “Standby Liquid Control System.”
Public Comments Received as to Proposed NSHC (Yes/No) | No.
PSEG Nuclear LLC; Salem Nuclear Generating Station, Unit Nos. 1 and 2; Salem County, NJ
Docket No | 50-272, 50-311.
Amendment Date | August 5, 2025.
ADAMS Accession No | ML25191A194.
Amendment No | 351 (Unit 1), 333 (Unit 2).
Brief Description of Amendment | The amendments modified the technical specification surveillance requirements for the containment fan cooler units by removing overly detailed information and relocating it to licensee-controlled documents, consistent with NUREG-1431, “Standard Technical Specifications—Westinghouse Plants.”
Public Comments Received as to Proposed NSHC (Yes/No) | No.
Southern Nuclear Operating Company, Inc.; Edwin I. Hatch Nuclear Plant, Units 1 and 2; Appling County, GA; Southern Nuclear Operating Company, Inc.; Joseph M. Farley Nuclear Plant, Units 1 and 2; Houston County, AL; Southern Nuclear Operating Company, Inc.; Vogtle Electric Generating Plant, Units 1 and 2; Burke County, GA; Southern Nuclear Operating Company, Inc.; Vogtle Electric Generating Plant, Units 3 and 4; Burke County, GA
Docket Nos | 50-321, 50-348, 50-364, 50-366, 50-424, 50-425, 52-025, 52-026.
Amendment Date | August 12, 2025.
ADAMS Accession No | ML25197A532.
Amendment Nos | 257 (Farley, Unit 1), 254 (Farley, Unit 2), 328 (Hatch, Unit 1), 273 (Hatch, Unit 2), 228 (Vogtle, Unit 1), 210 (Vogtle, Unit 2), 204 (Vogtle Unit 3), and 201 (Vogtle, Unit 4).
Brief Description of Amendments | The amendments revised the respective technical specifications (TSs) regarding “Unit Staff Qualifications” by removing the licensee's staff qualification requirements from the TSs and relocating the control of unit staff qualification requirements to the licensee-controlled Southern Nuclear Operating Company Quality Assurance Topical Report (QATR) for Farley, Units 1 and 2, Hatch, Units 1 and 2, and Vogtle, Units 1 and 2, and the Nuclear Development Quality Assurance Manual (NDQAM) for Vogtle, Units 3 and 4, consistent with the guidance in NRC Administrative Letter (AL) 95-06, “Relocation of Technical Specification Administrative Controls Related to Quality Assurance” (ML031110271).
Public Comments Received as to Proposed NSHC (Yes/No) | No.
Southern Nuclear Operating Company, Inc.; Vogtle Electric Generating Plant, Units 3 and 4; Burke County, GA
Docket Nos | 52-025, 52-026.
Amendment Date | July 22, 2025.
ADAMS Accession No | ML25147A107.
Amendment Nos | 202 (Unit 3) and 199 (Unit 4).
Brief Description of Amendments | The amendments removed completed combined operating license (COL) conditions, modified other COL conditions, and removed some unit-specific technical specification and COL language that is no longer applicable for Vogtle, Units 3 and 4.
Public Comments Received as to Proposed NSHC (Yes/No) | No.
Southern Nuclear Operating Company, Inc.; Vogtle Electric Generating Plant, Units 3 and 4; Burke County, GA
Docket Nos | 52-025, 52-026.
Amendment Date | August 8, 2025.
ADAMS Accession No | ML25199A048.
Amendment Nos | 203 (Unit 3) and 200 (Unit 4).
Brief Description of Amendments | The amendments added a new “Tcold—High,” Function 11.b for passive residual heat removal actuation logic to Technical Specification (TS) Table 3.3.8-1, “Engineered Safeguards Actuation System Instrumentation,” as well as editorial changes to TS 3.3.8 for Vogtle Electric Generating Plant, Units 3 and 4.
Public Comments Received as to Proposed NSHC (Yes/No) | No.
Vistra Operations Company LLC; Comanche Peak Nuclear Power Plant, Unit Nos. 1 and 2; Somervell County, TX
Docket Nos | 50-445, 50-446.
Amendment Date | July 21, 2025.
ADAMS Accession No | ML25192A051.
Amendment Nos | 192 (Unit 1) and 192 (Unit 2).
Brief Description of Amendments | The amendments revised the technical specification (TS) requirements in TS section 1.3, “Completion Times,” and TS section 3.0, “Limiting Condition for Operation (LCO) Applicability,” and “Surveillance Requirements (SR) Applicability.” Specifically, these changes clarified and expanded the use and application of the usage rules for Comanche Peak Nuclear Power Plant, Unit Nos. 1 and 2 TS and are consistent with the NRC-approved Technical Specifications Task Force (TSTF) Traveler TSTF-529, Revision 4, “Clarify Use and Application Rules,” dated February 29, 2016, and was approved by the NRC by letter dated April 21, 2016.
Public Comments Received as to Proposed NSHC (Yes/No) | No.

Dated: August 21, 2025.
For the Nuclear Regulatory Commission.
Jamie Pelton,
Acting Director, Division of Operating Reactor Licensing, Office of Nuclear Reactor Regulation.

[FR Doc. 2025-16718 Filed 8-29-25; 8:45 am]

BILLING CODE 7590-01-P